DEPARTMENT OF TRANSPORTATION

National Highway Traffic Safety Administration

[Docket No. NHTSA-2022-0103; Notice 1]

Hercules Tire & Rubber Company, Receipt of Petition for Decision of Inconsequential Noncompliance

AGENCY: National Highway Traffic Safety Administration (NHTSA), Department of Transportation (DOT).

ACTION: Receipt of petition.

SUMMARY: Hercules Tire & Rubber Company, (Hercules), has determined that certain Ironman iMove PT radial tires do not fully comply with Federal Motor Vehicle Safety Standard (FMVSS) No. 139, New Pneumatic Radial Tires for Light Vehicles. Hercules filed an original noncompliance report on October 26, 2022, and amended the report on November 28, 2022. Hercules subsequently petitioned NHTSA on October 27, 2022, and amended its petition on December 1, 2022, for a decision that the subject noncompliance is inconsequential as it relates to motor vehicle safety. This document announces receipt of Hercules' petition.

DATES: Send comments on or before August 26, 2024.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Jayton Lindley, Safety Compliance Engineer, Office of Vehicle Safety Compliance, NHTSA, (325) 366-0547.

SUPPLEMENTARY INFORMATION:

I. Overview: Hercules determined that certain Ironman iMove PT radial tires do not fully comply with paragraph S5.5.1(b) of FMVSS No. 139, New Pneumatic Radial Tires for Light Vehicles (49 CFR 571.139).

Hercules filed an original noncompliance report dated October 26, 2022, and amended the report on November 28, 2022, pursuant to 49 CFR part 573, Defect and Noncompliance Responsibility and Reports. Hercules petitioned NHTSA on October 27, 2022, and amended its petition on December 1, 2022, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Hercules's petition is published under 49 U.S.C. 30118 and 30120 and does not represent any agency decision or another exercise of judgment concerning the merits of the petition.

II. Tires Involved: Approximately 5,146 Ironman iMove PT radial tires, size 215/55R17, manufactured between March 7, 2022, and May 16, 2022, were reported by the manufacturer.

III. Noncompliance: Hercules explains that the date code portion of the Tire Identification Number (TIN) on the subject tires inaccurately identifies the week of manufacture and, therefore, does not comply with paragraph S5.5.1(b) of FMVSS No. 139 and 49 CFR part 574.5(b)(3). Specifically, the TIN on the subject tires contains a date code in which the first symbol is “7” when it should be “1.”

IV. Rule Requirements: Paragraph S5.5.1(b) of FMVSS No. 139 and 49 CFR 574.5(b)(3) include the requirements relevant to this petition. Each tire (manufactured on or after September 1, 2009) must be labeled with the TIN, as required by 49 CFR part 574.5(b)(3), on the intended outboard sidewall of the tire. The date code, consisting of four numerical symbols, is the final group of the TIN and must identify the tire's week and year of manufacture. The first and second symbols of the date code must identify the week of the year by using “01” for the first full calendar week in each year, “02” for the second full calendar week, and so on. The third and fourth symbols of the date code must identify the last two digits of the year of manufacture.

V. Summary of Hercules's Petition: The following views and arguments presented in this section, “V. Summary of Hercules's Petition,” are the views and arguments provided by Hercules. They have not been evaluated by the Agency and do not reflect the views of the Agency. Hercules describes the subject noncompliance and contends that the noncompliance is inconsequential as it relates to motor vehicle safety.

Hercules explains that the subject tires were manufactured in calendar weeks 10-19 of calendar year 2022, therefore the first symbol of the date code portion of the TIN should be “1.” However, the tires contain a TIN in which the first symbol of the date code is “7,” indicating that the tire was manufactured in calendar weeks 70-79, which do not exist.

Hercules states that other than the incorrect first digit of the date code, all other content within the TIN is accurate and the tires comply with the applicable FMVSS No. 139 performance requirements.

Hercules believes that subject noncompliance will not cause consumers to be misled because the incorrect date code indicates a calendar week that does not exist. For example, if the date code listed on the subject tire is “7322,” it indicates that the tire was manufactured in calendar week 73 of the year 2022, which does not exist.

According to Hercules, NHTSA has granted prior petitions in which the noncompliance involves mislabeled or inaccurate date codes because the noncompliance will not confuse or mislead the consumer. Hercules believes that NHTSA's main concern with TINs that are mislabeled or inaccurate is the potential for adverse safety consequences due to consumers using aged tires that are beyond the manufacturer's recommended service life, regardless of the condition of the tire.¹

¹ See Cooper Tire & Rubber Company, 86 FR 47726 (August 26, 2021).

Hercules says that the incorrect date code “cannot be confused with any other reasonably related date code that would lead a consumer to question the accuracy of the week of manufacture.” Further, Hercules says the date code indicates the correct year that the tire was manufactured, thus the consumer would not be misled about the overall age of the tire.

Hercules says the subject noncompliance is similar to noncompliances in prior petitions that were granted by NHTSA that involved discrepancies in the TIN.² Hercules states that there is no risk a consumer would use the subject tire beyond the recommended maximum service life because the year of manufacture indicated by the date code is correct. In the worst-case scenario, Hercules expects that a consumer would contact them or their local tire distributor regarding the accuracy of the date code on the subject tires.

² See Bridgestone/Firestone, Inc., Grant of Petition, 71 FR 4396 (January 26, 2006), Bridgestone/Firestone, Inc., Grant of Petition, 66 FR 45076 (August 27, 2001).

Hercules states that in the event of a recall, it is able to identify the subject tires and notify consumers. Hercules contends that NHTSA has granted prior petitions in which the manufacturer had the ability to identify affected tires if a recall were to occur.³ Hercules quotes NHTSA as stating, “The purpose of the date code is to identify the tire so that, if necessary, the appropriate action can be taken in the interest of public safety—such as, a safety recall notice.” Hercules notes that NHTSA has previously granted a petition for a noncompliance in a which date code was not provided but the manufacturer was able to notify consumers using that TIN with a missing date code.

³ See Bridgestone/Firestone Grant of Inconsequentiality Petition, 64 FR 20090 (May 28, 1999); see also Cooper Tire & Rubber Co., Grant of Inconsequentiality Petition, 68 FR 16115 (April 2, 2003).

Hercules concludes by stating its belief that the subject noncompliance is inconsequential as it relates to motor vehicle safety and its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that Hercules no longer controlled at the time it determined that the noncompliance existed. However, any decision on this petition does not relieve tire distributors and dealers of the prohibitions on the sale, offer for sale, or introduction or delivery for introduction into interstate commerce of the noncompliant tires under their control after Hercules notified them that the subject noncompliance existed.

(Authority: 49 U.S.C. 30118, 30120: delegations of authority at 49 CFR 1.95 and 501.8)

Otto G. Matheke, III,
Director, Office of Vehicle Safety Compliance.

[FR Doc. 2024-16484 Filed 7-25-24; 8:45 am]

BILLING CODE 4910-59-P